DEPARTMENT OF LABOR

Office of the Secretary

Agency Information Collection Activities; Submission for OMB Review; Comment Request; Pilot Surveys of Employee Voice in the Coal Mining Industry

ACTION: Notice.

SUMMARY: The Department of Labor (DOL) is submitting the Mine Safety and Health Administration (MSHA) sponsored new information collection request (ICR) titled, “Pilot Surveys of Employee Voice in the Coal Mining Industry,” to the Office of Management and Budget (OMB) for review and approval for use in accordance with the Paperwork Reduction Act (PRA) of 1995 (44 U.S.C. 3501 et seq.).

DATES: Submit comments on or before July 12, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an email to DOL_PRA_PUBLIC@dol.gov.

Submit comments about this request to the Office of Information and Regulatory Affairs, Attn: OMB Desk Officer for DOL-MSHA, Office of Management and Budget, Room 10235, New Executive Office Building, Washington, DC 20503, Telephone: 202-395-6929/Fax: 202-395-6881 (these are not toll-free numbers), email: OIRA_submission@omb.eop.gov.

FOR FURTHER INFORMATION CONTACT: Michel Smyth by telephone at 202-693-4129 (this is not a toll-free number) or by email at DOL_PRA_PUBLIC@dol.gov.

SUPPLEMENTARY INFORMATION: The DOL seeks OMB approval to conduct an information collection as part of a pilot study to determine how to measure workers' voice in mining workplaces under the jurisdiction of the MSHA. The DOL working definition for voice in the workplace is workers' ability to access information on their rights in the workplace, their understanding of those rights, and their ability to exercise these rights without fear of discrimination or retaliation. Voice in the workplace is a key outcome goal for the Secretary of Labor and part of her vision of good jobs for everyone. A separate concurrent effort will measure workers' voice in workplaces under the jurisdiction of the Wage and Hour Division and Occupational Safety and Health Administration. Measuring voice among miners, however, poses unique data collection challenges, including implementing a survey in a setting that feels non-threatening to mine workers, and asking questions in a format that reflects mining community cultures and practices. The DOL seeks to perform a pilot study to investigate the efficacy of different data collection methods and to develop a survey instrument that is appropriate for the mining community. The primary research question is what measures of voice and perceived non-compliance, combined with what modes of data collection, could be best used to track MSHA's worker-protection outreach activity? This ICR covers a set two or three small-scale pilot data collections. Data collection for this effort will employ two or three strategies: (1) Submission of paper questionnaires to be filled out by individual mine workers during offsite mining-related training sessions, (2) recruitment of miners by using radio and paper advertisements, and (3) a mail or phone survey. The DOL is currently assessing the feasibility of each method prior to implementation. For example, implementation of a phone or mail survey will depend on the availability of a valid list of miners. A maximum of 125 respondents will be surveyed under each collection mode for 375 maximum respondents for the overall effort.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6. For additional information, see the related notice published in the Federal Register on January 19, 2012 (77 FR 2760).

Interested parties are encouraged to send comments to the OMB, Office of Information and Regulatory Affairs at the address shown in the ADDRESSES section within 30 days of publication of this notice in the Federal Register. In order to help ensure appropriate consideration, comments should reference OMB ICR Reference Number 201205-1219-001. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-MSHA.

Title of Collection: Pilot Surveys of Employee Voice in the Coal Mining Industry.

OMB ICR Reference Number: 201205-1219-001.

Affected Public: Individuals or households.

Total Estimated Number of Respondents: 375.

Total Estimated Number of Responses: 375.

Total Estimated Annual Burden Hours: 156.

Total Estimated Annual Other Costs Burden: $0.

Dated: June 6, 2012.
Michel Smyth,
Departmental Clearance Officer.

[FR Doc. 2012-14210 Filed 6-11-12; 8:45 am]

BILLING CODE 4510-22-P